DEPARTMENT OF TRANSPORTATION

Pipeline and Hazardous Materials Safety Administration

Hazardous Materials: Notice of Applications for Modification to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein.

DATES: Comments must be received on or before March 26, 2024.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington DC or at http://regulations.gov.

This notice of receipt of applications for special permit is published in accordance with part 107 of the Federal hazardous materials transportation law (49 U.S.C. 5117(b); 49 CFR 1.53(b)).

Issued in Washington, DC, on February 15, 2024.
Donald P. Burger,
Chief, General Approvals and Permits Branch.

Special Permits Data
Application No. | Applicant | Regulation(s) affected | Nature of the special permits thereof
11194-M | Mission Systems Orchard Park Inc | 172.203(a), 172.301(c), 173.302a(a)(1), 173.304a(a)(1), 180.205 | To modify the special permit to authorize additional hazardous materials. (modes 1, 2, 3, 4, 5).
15322-M | Hexagon Digital Wave LLC | 180.209(a), 180.205(c), 180.205(f), 180.205(g), 180.213, 173.302a(b)(2), 173.302a(b)(5) | To modify the special permit to authorize agents of Hexagon Digital Wave, LLC to perform inspection and testing of cylinders. (modes 1, 2, 3, 4, 5).
16172-M | Entegris, Inc | 173.301(f) | To modify the special permit to authorize additional hazardous materials. (modes 1, 3).
20301-M | Tesla, Inc | 173.185(a)(1), 173.185(b)(3)(i), 173.185(b)(3)(ii) | To modify the special permit to authorize an additional cell type. (mode 4).
20396-M | Hexagon Digital Wave LLC | 180.205(g) | To modify the special permit to authorize agents of Hexagon Digital Wave, LLC to perform inspection and testing of cylinders. (modes 1, 2, 3).
21360-M | ABG Bag, Inc | 173.12(b)(2)(ii)(C), 178.707(d) | To modify the special permit to authorize cargo vessel. (mode 1).
21408-M | GFS Chemicals, Inc | 173.158(f)(3) | To modify the special permit to authorize an alternative manufacturer for the 500 mL and 2.5 L inner packagings. (modes 1, 3).
21470-M | Honeywell Intellectual Properties Inc | 173.302a(a)(1) | To modify the special permit to remove revision letters to provide flexibility. (mode 1).
21543-M | Consumer Product Safety Commission, United States | 173.185(a)(1) | To modify the special permit to authorize an additional hazardous material and packaging. (mode 1).
21546-M | Space Exploration Technologies Corp | 176.178(b), 176.180, 176.182(g), 176.190, 176.138(b) | To modify the special permit's operational controls. (modes 1, 3).
21607-M | Amazon.com, Inc | 172.200(b)(3), 172.315(a)(2) | To modify the special permit to authorize shipments of division 5.2 hazardous materials, remove the maximum ferry route limitation of 35 miles, remove dangerous goods manifest requirements, and to modify shipment reporting requirements to allow product-type details to be provided in lieu of proper shipping name information. (modes 1, 2).
21650-M | Bollore Logistics Germany GmbH | 172.400, 172.101(j), 172.300, 173.185(a)(1), 173.185(e)(7), 173.301(f), 173.302a(a)(1) | To modify the special permit to authorize a different transportation route. (modes 1, 4).
21663-M | Orbion Space Technology, Inc | 172.203(a), 172.301(c), 173.301(f)(1), 173.302(a)(1) | To modify the special permit to authorize an additional packaging and to authorize an increase in the filling pressure. (mode 1).

[FR Doc. 2024-05031 Filed 3-8-24; 8:45 am]

BILLING CODE P